DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before October 30, 2025.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 26, 2025.
Donald P. Burger,
Chief, General Approvals and Permits Branch.

SPECIAL PERMITS DATA
Application No. | Applicant | Regulation(s) affected | Nature of the special permits thereof
22087-N | Zipline International Inc | 49 CFR Parts 171-180 | To authorize the transportation in commerce of certain hazardous materials as not subject to the HMR when transported to their final delivery destination using unmanned aircraft system. (mode 4).
22090-N | K2 Space Corporation | 173.302a(a)(1) | To authorize the transportation in commerce of non-DOT specification cylinder incorporated into a spacecraft. (mode 1).
22094-N | BAE Systems Controls Inc | 172.101(j) | To authorize the transportation in commerce of lithium-ion batteries exceeding 35 kg by cargo-only aircraft. (mode 4).
22095-N | LG Energy Solution, Ltd | 172.101(a) | To authorize the transportation in commerce of lithium-ion batteries exceeding 35 kg by cargo-only aircraft. (mode 4).
22096-N | Senior Operations LLC | 173.306(f)(3)(iii)(A) | To authorize the manufacture, mark, sale and use of accumulator pressure receptacles that have not been subjected to the burst pressure test as required by 173.306(f)(3)(ii)(A). (modes 1, 2, 3, 4).
22098-N | CBC Global | 179.300, 179.301 | To authorize the manufacture, mark, sale and use of DOT-106A and DOT-110 multi-unit tank car tanks in accordance with ASME Boiler and Pressure Vessel Code, Section XII, Modal Appendix 4, in lieu of the current requirements referencing AAR Specification for tank cars. (modes 1, 3, 5).
22100-N | Carver Labs, Inc. | 172.101(a), 172.202(a), 173.320 | To authorize the transportation in commerce of a hazardous material as UN1977 without separate classification or marking as UN1845 provided that the carbon dioxide pellets remain fully submerged in liquid nitrogen. (modes 1, 2, 3).
22103-N | Amazon.com, Inc. | 172.301(c) | To authorize the transportation in commerce of inner receptacles manufactured under a separate special permit without marking the manufacturing special permit number on the outer packaging. (modes 1, 2, 3).
22106-N | Veolia ES Technical Solutions, LLC | 173.21(b), 173.51(a), 173.54(a), 173.56(b) | To authorize the one-time, one-way transportation of a forbidden explosive for disposal. (mode 1).
22107-N | Allendale, LLC | 173.185(a)(1), 173.185(a)(1)(i) | To authorize the transportation in commerce of prototype lithium-Ion batteries by cargo-only aircraft. (mode 4).
22108-N | D-Orbit US LLC | 173.301(a)(9) | To authorize the transportation of non-DOT specification pressure vessels as part of a spacecraft. (mode 1).

[FR Doc. 2025-19047 Filed 9-29-25; 8:45 am]

BILLING CODE 4910-60-P